DEPARTMENT OF VETERANS AFFAIRS

[OMB Control No. 2900-0886]

Agency Information Collection Activity: Decision Review Request: Supplemental Claim

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before April 15, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0886” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0886” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 115-55, sec. 2, 38 U.S.C. 5108, 38 CFR 3.2501.

Title: Decision Review Request: Supplemental Claim (VA Form 20-0995).

OMB Control Number: 2900-0886.

Type of Review: Revision of a currently approved collection.

Abstract: VA Form 20-0995 is used by a claimant and/or beneficiary to formally request a review of an initial VA decision, based on new and relevant evidence, in accordance with the Appeals Modernization Act. Without the information solicited by this form, VA would be unable to initiate the `Supplemental Claim' on behalf of the claimant or determine the issues for which the claimant seeks review.

This proposed revision consists of; non-substantive edits to the `Instructions' to help clarify the content, a new question that helps identify what benefit type the claimant is requesting, a new section that separates Veteran from claimant, a new section identifying if the claimant is homeless or at risk of becoming homeless, a new section that provides an option to the claimant to check a box if they want VBA to notify the Veteran Health Administration about certain upcoming event(s) during the claim and/or appeal process, and a witness signature section, alternate signer signature section, and a power of attorney signature section has been added to help clarify who is signing the form. The respondent burden has increased due to the estimated number of receivables averaged over the past year.

Affected Public: Individuals or households.

Estimated Annual Burden: 160,119.

Estimated Average Burden per Respondent: 15 minutes.

Frequency of Response: One time.

Estimated Number of Respondents: 640,477.

By direction of the Secretary.
Maribel Aponte,
VA PRA Clearance Officer, Office of Enterprise and Integration/Data Governance Analytics, Department of Veterans Affairs.

[FR Doc. 2024-02944 Filed 2-12-24; 8:45 am]

BILLING CODE 8320-01-P